DEPARTMENT OF HEALTH AND HUMAN SERVICES

National Institutes of Health

Office of the Director, National Institutes of Health; Notice of Meeting

Pursuant to section 10(a) of the Federal Advisory Committee Act, as amended (5 U.S.C. App.), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: April 10, 2012.

Time: 8:30 a.m. to 5 p.m.

Agenda: The theme of the Office of AIDS Research Advisory Council (OARAC) meeting will be New Scientific Opportunities in AIDS Vaccine Research. The speakers at this meeting will focus on research to address: basic research on HIV vaccine design and development of new vaccine candidates; new assay systems for measuring systemic and mucosal immunity to HIV vaccine candidates; alternative adenovirus vectors; animal models for testing vaccine candidates; updates on the RV144 clinical trial; and plans for future clinical trials to advance HIV vaccine candidates to efficacy testing. An update will be provided on the latest changes made to the federal treatment and prevention guidelines by the OARAC Working Groups responsible for the guidelines.

Place: National Institutes of Health, 5635 Fishers Lane, Terrace Level, Suite T-500, Rockville, MD 20852.

Contact Person: Robert Eisinger, Ph.D., Executive Secretary, Director of Scientific and Program Operations, Therapeutics Coordinating Committee, Office of AIDS Research, 5635 Fishers Lane, MSC 9310, Suite 400, Rockville, MD 20852, (301) 496-0357; be4y@nih.gov.

Any interested person may file written comments with the committee by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: March 14, 2012.
Jennifer S. Spaeth,
Director, Office of Federal Advisory Committee Policy.

[FR Doc. 2012-6719 Filed 3-19-12; 8:45 am]

BILLING CODE 4140-01-P